DEPARTMENT OF AGRICULTURE

Rural Utilities Service

Announcement of Grant Application Deadlines and Funding Levels

AGENCY: Rural Utilities Service, USDA.

ACTION: Notice of funding availability and solicitation of applications.

SUMMARY: USDA Rural Development administers rural utilities programs through the Rural Utilities Service. USDA Rural Development announces additional Fiscal Year (FY) 2006 funding available through its Technical Assistance and Training Grant Program (TAT). An additional $500,000 in emergency funding will be made available, pursuant to the Secretary's determination of extreme need, to conduct Water Resource Studies in the states affected by hurricanes Katrina, Rita, and/or Wilma (Florida, Alabama, Mississippi, Louisiana, and Texas).

DATES: You may submit completed applications for the Water Resource Studies grant(s) from the date of announcement to 30 days after this announcement appears in the Federal Register.

ADDRESSES: You may obtain application guides and materials for the Water Resource Studies grants the following ways:

• The Internet at USDA Rural Development Web site: http://www.usda.gov/rus/water/.

• You may also request application guides and materials by contacting the USDA Rural Development, WEP at (202) 720-9586.

You may submit:

• Completed paper applications for Water Resource Studies grants to the USDA Rural Development, U.S. Department of Agriculture, 1400 Independence Avenue, SW., Room 2233, STOP 1570, Washington, DC 20250-1570. Applications should be marked “Attention: Assistant Administrator, Water and Environmental Programs.”

• Electronic grant applications at http://www.grants.gov/ (Grants.gov), following the instructions you find on that Web site.

FOR FURTHER INFORMATION CONTACT: Anita O'Brien, Loan Specialist, Water Program Division, USDA Rural Development, telephone: (202) 690-3789, fax: (202) 690-0649.

SUPPLEMENTARY INFORMATION:

Overview

Federal Agency: Rural Utilities Service.

Funding Opportunity Title: Water Resource Studies Grants.

Announcement Type: Funding Level Announcement and Solicitation of Applications.

Authority: 7 U.S.C. 1926(a)(14); Pub.L. 109-97, 119 Stat. 2120.

Catalog of Federal Domestic Assistance (CFDA) Number: 10.761.

Dates: You may submit completed application for a TAT grant from the date of announcement to 30 days after this announcement appears in the Federal Register.

Reminder of competitive grant application deadline: Applications must be mailed, shipped or submitted electronically through Grants.gov no later than 30 days after this announcement appears in the Federal Register to be eligible for funding.

Items in Supplementary Information

I. Funding Opportunity: Brief introduction to the Water Resource Studies Grants;

II. Award Information: Available funds, maximum amounts;

III. Eligibility Information: Who is eligible, what kinds of projects are eligible, what criteria determine basic eligibility;

IV. Application and Submission Information: Where to get application materials; what constitutes a completed application; how and where to submit applications; deadlines; and, items that are eligible;

V. Application Review Information: Considerations and preferences; scoring criteria; review standards; and selection information;

VI. Award Administration Information: Award notice information and award recipient reporting requirements;

VII. Agency Contacts: Web, phone, fax, email, and contact name.

I. Funding Opportunity

Drinking water systems are basic and vital to both health and economic development. Hurricanes Katrina, Rita, and Wilma severely damaged water systems in the states of Florida, Alabama, Mississippi, Louisiana, and Texas. Without dependable water supply, rural communities in these states will not attract families and businesses to return and invest in the hurricane damaged communities.

USDA Rural Development supports the sound development of rural communities and the growth of our economy without endangering the environment. It provides financial and technical assistance to help communities bring safe drinking water and sanitary, environmentally sound waste disposal facilities to rural Americans in greatest need. The additional funding for Water Resource Studies will allow rural communities to better plan and secure dependable water supplies for rebuilding their community's health and economic development. Qualified private non-profit organizations may apply to receive a grant to conduct Water Resource Studies to evaluate sources of dependable water supplies for communities in the hurricane affected states.

II. Award Information

Available funds: $500,000 is available for Water Resource Study grants in FY 2006.

III. Eligibility Information

A. What are the basic eligibility requirements for applying?

The applying entity (Applicant) must:

1. Be a private, non-profit organization that has tax-exempt status from the United States Internal Revenue Service (IRS);

2. Be legally established and located within one of the following:

a. A state within the United States.

b. The District of Columbia.

c. The Commonwealth of Puerto Rico.

d. Insular possession of the United States.

3. Have the legal capacity and authority to carry out the grant purpose;

4. Have no delinquent debt to the Federal Government or no outstanding judgments to repay Federal debt.

B. What are the basic eligibility requirements for a project?

The project must be a Water Resource Study that will evaluate and recommend sources of dependable water supply that can be developed and used by rural communities in one or more of the hurricane affected states of Florida, Alabama, Mississippi, Louisiana, and Texas.

IV. Application and Submission Information

A. Where to get application Information

The grant application guide, copies of necessary forms and samples, and the Technical Assistance Grants regulation (7 CFR 1775) are available from these sources:

• The Internet: http://www.usda.gov/rus/water/,

• http://www.grants.gov. or,

• For paper copies of these materials: call (202) 720-9586.

1. You may file an application in either paper or electronic format. Whether you file a paper or an electronic application, you will need a Dun and Bradstreet (D&B) Data Universal Numbering System (DUNS) number. You must provide your DUNS number on the SF-424, “Application for Federal Assistance.”

To verify that your organization has a DUNS number or to receive one at no cost, call the dedicated toll-free request line at 1-866-705-5711 or access the Web site http://www.dunandbradstreet.com. You will need the following information when requesting a DUNS number:

a. Legal Name of the Applicant;

b. Headquarters name and address of the Applicant;

c. The names under which the Applicant is doing business (e.g. dba) or any other name(s) by which the Applicant is commonly recognized;

d. Physical address of the Applicant;

e. Mailing address (if separate from headquarters and/or physical address of the Applicant);

f. Telephone number;

g. Contact name and title;

h. Number of employees at the physical location.

2. Send or deliver paper applications via the U.S. Postal Service (USPS) or courier delivery services to the USDA Rural Development receipt point set forth below. Applications will not be accepted by fax or e-mail. For paper applications mail or ensure delivery of an original paper application (no stamped, photocopied, or initialed signatures) and two copies by the deadline date to the following address:

Assistant Administrator—Water and Environmental Programs, USDA Rural Development, 1400 Independence Avenue, SW., STOP 1548, Room 5145 South, Washington, DC 20250-1548. The application and any materials sent with it become Federal records by law and cannot be returned to you.

3. For electronic applications, you must file an electronic application at the Web site: http://www.grants.gov. You must be registered with Grants.gov before you can submit a grant application. If you have not used Grants.gov before, you will need to register with the Central Contractor Registry (CCR) and the Credential Provider. You will need a DUNS number to accomplish such registration and later access any of the services.

The CCR registers your organization, maintains your organizational information and allows Grants.gov to use it to verify your identity. You may register with CCR by calling the CCR Assistance Center at 1-888-227-2423 or you may register online at: http://www.ccr.gov.

The Credential Provider gives you or your representative a username and password, as part of the Federal Government's e-Authentication to ensure a secure transaction. You will need the username and password when you register with Grants.gov or use Grants.gov to submit your application. You must register with the Central Provider through Grants.gov: https://apply.grants.gov/OrcRegister.

The registration processes may take several business days to complete. Follow the instructions at Grants.gov for registering and submitting an electronic application. Original signatures on electronically submitted documents may be requested at a later date.

B. What constitutes a completed application?

1. To be considered for assistance, you must be an eligible entity and must submit a complete application by the deadline date. You must consult the cost principles and general administrative requirements for grants pertaining to their organizational type in order to prepare the budget and complete other parts of the application. You also must demonstrate compliance (or intent to comply), through certification or other means, with a number of public policy requirements.

2. Applicants must complete and submit the following forms to apply for a Water Resource Study grant:

(a) Standard Form 424, “Application for Federal Assistance.”

(b) Standard Form 424A, “Budget Information—Non-Construction Programs.”

(c) Standard Form 424B, “Assurances—Non-Construction Programs.”

(d) Standard Form LLL, “Disclosure of Lobbying Activity.”

(e) Form RD 400-1, “Equal Opportunity Agreement.”

(f) Form RD 400-4, “Assurance Agreement (Under Title VI, Civil Rights Act of 1964).

3. The project proposal should outline the project in sufficient detail to provide a reader with a complete understanding of how the proposed Water Resource Study will address the water supply needs of the study area. The proposal should contain:

a. A brief project overview. Explain the purpose of the project, how it relates to USDA Rural Development purposes, how the Applicant will carry out the project, what the project will produce, and who will direct it.

b. A statement describing the necessity of the project. Describe why the project is necessary. Describe how eligible rural communities will benefit from the study. Describe the service area. Address water needs of rural communities within the study area.

c. A statement of the study goals.. The statement should clearly describe the goals and be concrete and specific enough to be quantitative or observable. They should also be feasible and relate to the purpose of the proposed Water Resource Study.

d. A project evaluation which must describe how the results will be evaluated, consistent with the study's objectives.

e. The following supplementary materials must be submitted:

(i) Evidence that the Applicant is legally recognized under state and Federal law. Satisfactory documentation includes, but is not limited to, certificates from the Secretary of State, or copies of state statutes or laws under which the Applicant was established. Letters from the IRS awarding tax-exempt status are not considered adequate evidence.

(ii) A certified list of directors and officers with their respective terms.

(iii) Evidence of tax exempt status from the Internal Revenue Service.

(iv) Disclosure of debarment and suspension information required in accordance with 7 CFR 3017.335, if it applies. The section heading is “What information must I provide before entering into a covered transaction with the Department of Agriculture?” It is part of the Department of Agriculture's rules on Government-wide Debarment and Suspension.

(v). Identification of all of the Applicant's known workplaces including the actual address of buildings location within buildings; or other sites where work under the award takes place. Workplace identification is required under the drug-free workplace requirements in accordance with 7 CFR 3021.230. The section heading is “How and when must I identify workplaces?” It is part of the Department of Agriculture's rules on Government-wide Requirements for Drug-Free Workplace (Financial Assistance).

(vi) The most recent audit of the Applicant.

V. Application Review Information

A. Within 30 days of receiving the application, USDA Rural Development will acknowledge receipt by letter to the Applicant. The application will be reviewed for completeness to determine if it contains all of the items required. If the application is incomplete or ineligible, it will be returned to the Applicant with an explanation.

B. A review team, composed of at least two members, will evaluate all applications and proposals. They will make overall recommendations based on factors such as eligibility, application completeness, and conformity to application requirements. They will score the applications based on criteria in the next section.

C. All applications that are complete and eligible will be ranked competitively based on the following scoring criteria

Scoring criteria | Points
1. Degree of expertise | Up to 30 points.
2. Percentage of Applicant's contributions | Up to 20 points.
3. Needs Assessment: Extent that problems/issues are clearly defined and supported by data | Up to 15 points.
4. Goals/Objectives: Goals/objectives are clearly defined, are tied to need, and are measurable | Up to 15 points.
5. Extent to which the work plan clearly articulates a well thought-out approach to accomplishing objectives; and clearly defines those served by the study | Up to 50 points.
6. Description of the service area, particularly the demographics of the rural communities being served (population and Median Household Income of the communities) | Up to 15 points.
7. Extent to which the evaluation methods are specific to the program, clearly defined, measurable, with the expected project outcomes | Up to 20 points.
8. Administrator's discretion | Up to 15 points.

VI. Award Administration Information

A. USDA Rural Development will rank all qualifying applications by their final score. Applications will be selected for funding based on the highest scores and the availability of funding for the Water Resource Studies grants. Each applicant will be notified in writing of the score its application receives.

B. In making a decision regarding an application, USDA Rural Development may determine that an application is:

1. Eligible and selected for funding,

2. Eligible but offered fewer funds than requested,

3. Eligible but not selected for funding, or

4. Ineligible for the grant.

C. In accordance with 7 CFR part 1900, subpart B, the Applicant generally has the right to appeal adverse decisions. Some adverse decisions cannot be appealed. For example, if the Applicant is denied funding due to a lack of funds available for the grant program, this decision cannot be appealed. However, the Applicant may make a request to the National Appeals Division (NAD) to review the accuracy of our finding that the decision cannot be appealed. The appeal must be in writing and filed at the appropriate Regional Office, which can be found at http://www.nad.usda.gov/offices.htm or by calling (703) 305-1166.

D. Applicants selected for funding (Grantees) will complete a grant agreement, which outlines the terms and conditions of the grant award.

E. Grantees will be reimbursed as follows:

1. SF-270, “Request for Advance or Reimbursement,” will be completed by the Grantee and submitted to either the State or National Office not more frequently than monthly.

2. Upon receipt of a properly completed SF-270, payment will ordinarily be made within 30 days.

3. Grantees are encouraged to use women- and minority-owned banks (a bank which is owned at least 50 percent by women or minority group members) for the deposit and disbursement of funds.

F. Any change in the scope of the project, budget adjustments of more than 10 percent of the total budget, or any other significant change in the project must be reported to and approved by the appropriate USDA Rural Development official by written amendment to the grant agreement. Any change not approved may be cause for termination of the grant.

G. Project reporting.

1. Grantees shall constantly monitor performance to ensure that time schedules are being met, projected work is being accomplished within the established time periods, and other performance objectives are being achieved.

2. SF-269, “Financial Status Report (short form),” and a project performance activity report will be required of all grantees on a quarterly basis, due 30 days after the end of each quarter.

3. A final project performance report will be required with the last SF-269, due 90 days after the end of the last quarter in which the project is completed. The final report may serve as the last quarterly report.

4. All multi-state Grantees are to submit an original of each report to the National Office. Grantees serving only one State are to submit an original of each report to the State Office. The project performance reports should detail, preferably in a narrative format, activities that have transpired for the specific time period.

H. The Grantee will provide an audit report or financial statement(s) as follows:

1. Grantees expending $500,000 or more Federal funds per fiscal year will submit an audit conducted in accordance with OMB Circular A-133. The audit will be submitted within 9 months after the end of the Grantee's fiscal year. Additional audits may be required if the project period covers more than one fiscal year.

2. Grantees expending less than $500,000 will provide annual financial statements covering the grant period, consisting of the Grantee's statement of income and expense and balance sheet signed by an appropriate official of the Grantee. Financial statements will be submitted within 90 days after the Grantee's fiscal year.

VII. Agency Contacts

A. Web site: http://www.usda.gov/rus/water. The USDA Rural Development's Web site maintains up-to-date resources and contact information for the Technical Assistance Grants program.

B. Phone: (202) 720-9586.

C. Fax: (202) 690-0649.

D. E-mail: anita.obrien@wdc.usda.gov.

E. Main point of contact: Anita O'Brien, Loan Specialist, Water and Environmental Programs, Water Programs Division, USDA Rural Development.

Dated: February 24, 2006.
James M. Andrew,
Administrator, Rural Utilities Service.

[FR Doc. E6-3170 Filed 3-6-06; 8:45 am]

BILLING CODE 3410-15-P